DEPARTMENT OF ENERGY

Federal Energy Regulatory Commission

[Docket No. EL09-23-000]

Welch Motel, Inc.; Welch Oil Inc.; Boondocks USA Truck Stop; Bob Welch; Complainants v. Midland Power Cooperative; Corn Belt Power Cooperative; Respondents; Notice of Complaint

December 17, 2008.

Take notice that on December 17, 2008, pursuant to section 206 of the Rules and Practice and Procedure, 18 CFR 385.206, Welch Motel, Inc., Welch Oil, Inc., Boondocks USA Truck Stop, and Bob Welch (Complainants) filed a formal complaint against Midland Power Cooperative and Corn Belt Power Cooperative (Respondents) requesting that the Commission issue an order to (a) Allow the Complainants to enter into a contract to consume all of the electric energy and capacity generated by their wind turbine at 3065 220th St. Williams, Iowa 50271-7518 before drawing power from Midland Power Cooperative; (b) require Midland Power Cooperative to program its electric meter in such a way that Complainants are not billed for electricity until Complainants have consumed all of their electric energy from their wind turbine or; (c) in the alternative, if the Commission fails to act within 90 days, to be allowed to enter into any court whether federal or state, for the enforcement of the Public Utility Regulatory Policies Act.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 6, 2009.

Kimberly D. Bose,
Secretary.

[FR Doc. E8-30563 Filed 12-23-08; 8:45 am]

BILLING CODE 6717-01-P